DEPARTMENT OF STATE

[Public Notice 4477]

FY 2003 Funding Under the Research and Training for Eastern Europe and the Independent States of the Former Soviet Union Act of 1983 (Title VIII)

Deputy Secretary of State Richard L. Armitage approved on May 29, 2003, the FY 2003 funding recommendations of the Advisory Committee for the Study of Eastern Europe and the Independent States of the Former Soviet Union. The Title VIII Program, administered by the U.S. Department of State, seeks to build expertise on the countries of Eurasia and Central and East Europe through support to national organizations in the U.S. for advanced research, language and graduate training, and other activities conducted domestically and overseas. The FY 2003 grant recipients are listed below.

1. American Council of Learned Societies

Grant: $500,000 ($500,000-AEEB).

Purpose: To support institutional language training in the U.S., to include the Baltic States for the first time in 2005; individual language training fellowships, including the Baltic languages beginning in 2004; dissertation fellowships; Junior Scholars' Training Seminar; and post-doctoral research fellowships.

Contact: Andrzej W. Tymowski, Director of International Programs, American Council of Learned Societies, 633 Third Avenue, New York, NY 10017-6795.

Tel: (212) 697-1505, ext. 145, Fax: (212) 949-8058.

E-mail: ANDRZEJ@acls.org

2. American Councils for International Education

Grant: $525,000 ($425,000-Eurasia, $100,000-AEEB).

Purpose: To support fellowships for advanced Russian and Eurasian and East Central European languages; fellowships for the Combined Research and Language Training Program; and the Research Scholar/Junior Faculty fellowships.

Contact: Graham Hettlinger, Program Manager American Councils for International Education, 1776 Massachusetts Avenue, NW., Suite 700, Washington, DC 20036.

Tel: (202) 833-7522, ext. 168, Fax: (202) 833-7523.

E-mail: hettlinger@actr.org

3. The William Davidson Institute of the University of Michigan Business School

Grant: $245,000 ($145,000-Eurasia; $100,000-AEEB)

Purpose: To support grants for pre- and post-doctoral research projects on economic and business development and public policy to develop free markets in the Balkans, Central Asia and the Caucasus Region.

Contact: Kelly Janiga, Administrative Director, The William Davidson Institute, University of Michigan Business School, 724 East University Avenue, Ann Arbor, MI 48109-1234.

Tel: (734) 615-4562, Fax: (734) 763-5850.

Email: janigak@umich.edu

4. University of Illinois at Urbana-Champaign

Grant: $129,000 ($99,000-Eurasia; $30,000-AEEB)

Purpose: To support the Summer Research Laboratory, which provides dormitory housing and access to the University's library for advanced research, and the Slavic Reference Service, which locates materials unavailable through regular interlibrary loan; a CD burner and scanner; and a subscription for the virtual reference software—Docutek.

Contact: Merrily Shaw, Assistant to the Director of the Russian and East European Center, University of Illinois at Urbana-Champaign, 104 International Studies Building, 910 South Fifth Street, Champaign, IL 61820.

Tel: (217) 244-4721/333-1244, Fax: (217) 333-1582.

E-mail: mshaw2@uiuc.edu or reec@uiuc.edu

5. International Research and Exchanges Board

Grant: $756,000 ($481,000-Eurasia; $275,000-AEEB)

Purpose: To support Individual Advanced Research Opportunities providing pre- and post-doctoral research fellowships in Policy R&D; short-term travel grants; and a Regional Policy Forum on the Caucasus Region, in conjunction with the Woodrow Wilson Center.

Contact: Joyce Warner, Director, Academic Exchanges and Research Division, International Research and Exchanges Board, 2121 K Street, NW., Suite 700, Washington, DC 20037.

Tel: (202) 628-8188, Fax: (202) 628-8189.

E-mail: jwarner@irex.org

6. National Council for Eurasian and East European Research

Grant: $1,210,000 ($925,000-Eurasia; $285,000-AEEB).

Purpose: To support the Policy Research Fellowships in Eurasia and Central and East Europe for junior post-doctoral scholars; the Ed A. Hewett Fellowship Program to allow a scholar to work on a Research project for a year while serving in a USG agency or U.S. embassy overseas; short-term research grants to focus on Central Asia, the Caucasus, and the Balkans; and the post-doctoral National Research Program of research contracts for collaborative projects and fellowship grants for individuals.

Contact: Robert Huber, President, National Council for Eurasian and East European Research, 910 Seventeenth Street, NW., Suite 300, Washington, DC 20006.

Tel: (202) 822-6950, Fax: (202) 822-6955.

E-mail: dc@nceeer.org

7. Social Science Research Council

Grant: $775,000 ($775,000-Eurasia).

Purpose: To support pre-doctoral fellowships, including advanced graduate and dissertation; post-doctoral fellowships; curriculum development and teaching fellowships; one dissertation workshop on understudied regions; and the institutional language programs for advanced Russian and other Eurasian languages.

Contact: Seteney Shami, Program Director, Social Science Research Council, 810 Seventh Avenue, 31st Floor, New York, NY 10019.

Tel: (212) 377-2700, Fax: (212) 377-2727.

E-mail: shami@ssrc.org

8. The Woodrow Wilson Center for International Scholars

Grant: $783,000 ($495,000-Eurasia; $288,000-AEEB).

Purpose: To support the residential programs for post-doctoral Research Scholars, Short-term Scholars and Interns; the Meetings Program for both the Kennan Institute and East European Studies; the Kennan Institute's Outreach and Publications; the Kennan Institute's Workshop on Immigration, Forced Migration and Refugees in Central Eurasia; and the East European Studies Program's Junior Scholars' Training Seminar with the American Council of Learned Societies.

Contact: Nancy Popson, Deputy Director, Kennan Institute, Tel: (202) 691-4100, E-mail: popsonna@wwic.si.edu; Martin Sletzinger, Director, East European Studies, Tel: (202) 691-4263, E-mail: sletzinm@wwic.si.edu, The Woodrow Wilson Center, 1300 Pennsylvania Avenue, NW., Washington, DC 20004-3027, Fax: (202) 691-4247.

Dated: September 2, 2003.
Kenneth E. Roberts,
Executive Director, Advisory Committee for Study of Eastern Europe and the Independent States of the Former Soviet Union, Department of State.

[FR Doc. 03-23030 Filed 9-9-03; 8:45 am]

BILLING CODE 4710-32-U